DEPARTMENT OF HOUSING AND URBAN DEVELOPMENT

[Docket No. FR-4723-FA-07]

Announcement of Funding Awards for the Indian Community Development Block Grant Program for Fiscal Year 2002

AGENCY: Office of Native American Programs, HUD.

ACTION: Announcement of funding awards.

SUMMARY: In accordance with section 102(a)(4)(C) of the Department of Housing and Urban Development Reform Act of 1989, this announcement notifies the public of funding decisions made by the Department in a competition for funding under the Fiscal Year 2002 Notice of Funding Availability (NOFA) for the Indian Community Development Block Grant (ICDBG) Program. This announcement contains the consolidated names and addresses of this years award recipients under the ICDBG.

FOR FURTHER INFORMATION CONTACT: For questions concerning the Indian Community Development Block Grant Program awards, contact the Area Office of Native American Programs serving your area or Jackie Kruszek, Office of Native Programs, Denver Program Office, 1999 Broadway, Suite 3390, Denver, CO 80202, telephone 800-561-5913. Hearing- or speech-impaired individuals may access this number via TTY by calling the toll-free Federal Information Relay Service at 1-800-877-8339.

SUPPLEMENTARY INFORMATION:

This program provides grants to Indian tribes and Alaska Native Villages to develop viable Indian and Alaska Native communities, including the creation of decent housing, suitable living environments, and economic opportunities primarily for persons with low and moderate incomes as defined in 24 CFR 1003.4.

The FY 2002 awards announced in this notice were selected for funding in a competition announced in a NOFA published in the Federal Register on March 26, 2002 (67 FR 13909). Applications were scored and selected for funding based on the selection criteria in that NOFA and Area Office of Native American Programs (ONAPs) geographic jurisdictional competitions.

The amount appropriated in FY 2002 to fund the ICDBG was $70,000,000. Two million of this amount was retained to fund imminent threat grants in FY 2002. In addition, a total of $4,056,177 in carryover funds from prior years was also available. The allocations for the Area ONAP geographic jurisdictions, including carryover, are as follows:

Eastern/Woodlands | $6,151,645
Southern Plains | 12,608,675
Northern Plains | 11,293,350
Southwest | 29,923,175
Northwest | 5,391,769
Alaska | 6,628,571
Total | $72,056,177

In accordance with section 102 (a)(4)(C) of the Department of Housing and Urban Development Reform Act of 1989 (103 Stat. 1987, 42 U.S.C. 3545), the Department is publishing the names, addresses, and amounts of the 95 awards made under the various regional competitions in Appendix A to this document.

Dated: May 2, 2003.
Michael Liu,
Assistant Secretary for Public and Indian Housing.

Appendix A

Indian Community Development Block Grant Awards for Fiscal Year 2002

Chairman Dave Lopeman, Squaxin Island Tribe, SE Squaxin Lane, Shelton, WA 98584, Phone: (360) 426-9781; Grant Award: $500,000; Activity: Profession Center/Public Services.

Chairman Denny Hurtado, Skokomish Indian Tribes, North 80 Tribal Center Road, Shelton, WA 98584, Phone: (360) 426-4232; Grant Award: $500,000; Activity: Health Services Expansion/Diabetes Prevention Program.

Chairman Ernest L. Stensgar, Coeur d'Alene Tribe, P. O. Box 408, Plummer, ID 83851, Phone: (208) 686-1800; Grant Award: $449,500; Activity: Development of Trailhead Facilities.

Chairperson Cheryl Kennedy, Grand Ronde Indian Tribe, 9615 Grand Ronde Road, Grand Ronde, OR 97347, Phone: (503) 879-5211; Grant Award: $500,000; Activity: Sewer Interceptor Project.

Chairman Matthew Dick, Colville Indian Tribe, P. O. Box 150, Nespelem, WA 99155, Phone: (509) 634-4711; Grant Award: $500,000; Activity: Health Clinic.

Chairman Dennis Sullivan, Lower Elwha Klallam Tribe, 2851 Lower Elwha Road, Port Angeles, WA 98363, Phone: (360) 452-8471; Grant Award: $500,000; Activity: Health Clinic Expansion.

Chairman Kenneth Hansen, Samish Indian Nation, P. O. Box 217, Anacortes, WA 98221, Phone: (360) 299-0790; Grant Award: $500,000; Activity: Cultural and Environmental Facility.

Chairman Edward Metcalf, Coquille Indian Tribe, P. O. Box 783, North Bend, OR 97459, Phone number: (541) 756-0904; Grant Award: $330,366; Activity: Diabetes Clinic.

Chairman Ron Charles, Port Gamble S'Klallam Tribe, 31912 Little Boston Road NE, Kingston, WA 98346, Phone: (360) 297-2646; Grant Award: $500,000; Activity: Career and Education Center.

Chairman Ron Brainard, Confederated Tribes of Coos, Lower Umpqua, and Siuslaw Indians, 338 Wallace Avenue, Coos Bay, OR 97420, Phone: (541) 888-9577; Grant Award: $500,000; Activity: Multi-Purpose Center.

Chairman Terry Enos, Ak-Chin Indian Reservation, 42507 West Peters & Nall Road, Maricopa, AZ 85239, Phone: 520-568-2618, Fax: 520-568-4566; Grant Award: $550,000; Activity: Public Facilities Infrastructure.

Chairman Anthony Jack, Big Valley Rancheria of Pomo & Pit River Indians, 2726 Rancheria Road, Lakeport, CA 95453, Phone: 707-263-3924, Fax: 707-263-3977; Grant Award: $550,000; Activity: Housing—New Construction.

Chairman Edward Smith, Chemehuevi Indian Tribe, P.O. Box 1976, Havasu Lake, CA 92363, Phone: 760-858-4219, Fax: 760-858-5400; Grant Award: $550,000; Activity: Public Facilities Infrastructure.

Chairman Wayne Mitchum, Colusa Indian Community—Cachil, DeHe Band, 3730 Highway 45, Colusa, CA 95932, Phone: 530-458-8231, Fax: 530-458-3866; Grant Award: $305,287; Activity: Public Facilities Community Center.

Chairman Henry Blackeye, Jr., Duckwater Shoshone Tribe, P. O. Box 140068, Duckwater, NV 89314, Phone: 775-863-0227, Fax: 775-863-0301; Grant Award: $550,000; Activity: Housing—New Construction.

Chairperson Frances Benally, Fort Bidwell Paiute Indian Community, P. O. Box 129, Fort Bidwell, CA 96112, Phone: 530-279-6310, Fax: 530-279-2233; Grant Award: $550,000; Activity: Public Facilities Infrastructure.

Governor Donald Antone, Gila River Pima-Maricopa Indian Community, P. O. Box 97, Sacaton, AZ 85247, Phone: 520-562-6000, Fax: 520-562-6010; Grant Award: $2,484,112; Activity: Public Facilities—Health Clinic.

Governor Gregg Sarris, Graton Rancheria Indians, P. O. Box 185, Novato, CA 94948, Phone: 707-566-2288; Grant Award: $185,000; Activity: Housing Rehabilitation.

Chairperson Lyle Marshall, Hoopa Valley Tribe, P. O. Box 1348, Hoopa, CA 95546, Phone: 530-625-4211, Fax: 530-625-4594; Grant Award: $750,000; Activity: Public Facilities/Building.

Chairperson Louise Benson, Hualapai Indian Tribe, P. O. Box 179, Peach Springs, AZ 86434, Phone: 928-769-2216, Fax: 928-769-2343; Grant Award: $750,000; Activity: Public Facilities/Building.

Chairperson Rachel Joseph, Lone Pine—Paiute Shoshone Indians, P. O. Box 747, Lone Pine, CA 93545, Phone: 760-876-1034, Fax 760-876-8302; Grant Award: $550,000; Activity: Public Facilities—Community Center.

Chairman Leroy Elliott, Manzanita Band of Diegueno Indians, P. O. Box 1302, Boulevard, CA 91905, Phone: 619-766-4930, Fax: 619-766-4957; Grant Award: $550,000; Activity: Housing New Construction.

Chairperson Shirley Prusia, Mooretown Racheria of Maidu, 1 Alverda Drive, Oroville, CA 95966, Phone: 530-533-3625, Fax: 530-533-3680; Grant Award: $450,000; Activity: Public Facilities/Building.

President Kelsey Begaye, Navajo Nation, P.O. Box 9000, Window Rock, AZ 86515, Phone: 928-871-6352, Fax: 928-871-4025; Grant Award: $5,000,000; Activity: Public Facilities Infrastructure.

Chairperson Leona Williams, Pinoleville Rancheria of Pomo Indians, 367 N. State Street, Suite 204, Ukiah, CA 95482, Phone: 707-463-1454, Fax: 707-463-6601; Grant Award: $550,000; Activity: Land Acquisition for Housing.

Governor Jacob Viarrial, Pueblo of Pojoaque, 39 Camino del Rincon Suite 6, Santa Fe, NM 87501, Phone: 505-867-3381, Fax: 505-455-3363; Grant Award: $550,000; Activity: Housing Rehabilitation.

Chairman Arlan Melendezj, Reno-Sparks Indian Colony, 98 Colony Road, Reno, NV 89502, Phone: 775-329-2936, Fax: 775-329-8710; Grant Award: $550,000; Activity: Public Facilities Building.

Chairman John Currier, Rincon Band of Luiseno Mission Indians, P.O. Box 68, Valley Center, CA 92082, Phone: 760-749-1051, Fax: 760-749-8901; Grant Award: $550,000; Activity: Public Facilities Infrastructure.

Chairperson Claire Wilson, Robinson Rancheria of Pomo Indians, 1545 East Highway 20, Nice, CA 95464, Phone: 707-275-0527, Fax: 707-275-0235; Grant Award: $550,000; Activity: Public Facilities Infrastructure.

Chairman James Moon, Jr., Rohnerville Rancheria Band of Bear River Indians, 32 Bear River Drive, Loleta, CA 95551; Phone: 707-733-1900, Fax: 707-733-1972; Grant Award: $550,000; Activity: Land Acquisition for Housing.

President John Azbill, Round Valley Indian Tribe of the Round Valley Reservation, P.O. Box 448, Covelo, CA 95428, Phone: 707-983-6126, Fax: 707-983-6128; Grant Award: $550,000; Activity: Public Facilities Community Center.

President Ivan Makil, Salt River Pima-Maricopa Indians, 10005 East Osborn Road, Scottsdale, AZ 85256, Phone: 480-850-8000, Fax: 480-850-8014; Grant Award: $2,000,000; Activity: Public Facilities—Community Center.

Chairman Raymond Stanley, San Carlos Apache Tribe, Box 0, San Carlos, AZ 85550, Phone: 928-475-2361 Fax: 928-475-2567; Grant Award: $542,022; Activity: Public Facilities—Senior P.O. Center

Spokesperson Allen Lawson, San Pasqual Band of Diegueno Mission Indians, P.O. Box 365, Valley Center, CA 92082, Phone: 760-749-3200, Fax: 760-749-3876; Grant Award: $550,000; Activity: Public Facilities—Building.

Chairman Gabriel Ray, Scotts Valley Band of Pomo Indians, 9700 Soda Bay Road, Kelseyville, CA 95451, Phone: 707-459-9690, Fax: 707-459-6936; Grant Award: $550,000; Activity: Housing—New Construction.

Chairman Joseph E. Bulfer, Southern Indian Health Council, P.O. Box 2250, Alpine, CA 91903, Phone: 619-445-6315, Fax: 619-445-9126; Grant Award: $550,000; Activity: Public Facilities/Building.

Chairperson Mary Belardo, Torres-Martinez Band of Cahuilla Indians, P.O. Box 1160, Thermal, CA 92274, Phone: 760-397-0300, Fax: 760-397-8146; Grant Award: $525,555; Activity: Housing—New Construction.

Chairperson Carmella Johnson, Upper Lake band of Pomo Indians, P.O. Box 516, Upper Lake, CA 95485, Upper Lake, CA 95485, Phone: 707-275-0737, Fax: 707-275-0757; Grant Award: $413,040; Activity: Public Facilities Infrastructure.

Chairman Robert Quintero, Walker River Paiute Tribe, P.O. Box 220, Schurz, NV 89427, Phone: (775) 773-2306, Fax: (775) 773-2585; Grant Amount: $550,000; Activity: Public Facilities Infrastructure.

Chairperson Susan Masten, Yurok Tribe, P.O. Box 1027, Klamath, CA 95548, Phone: (707) 444-0433, Fax: (707) 444-0437; Grant Amount: $550,000; Activity: Economic Development.

John Lufkins, President, Bay Mills Indian Community, 12140 West Lake Shore Drive, Brimely, Michigan 49715, Phone: (906) 248-5224; Grant Amount: $360,000; Activity: Community Facility.

Chief Paul Thompson, Saint Regis Mohawk Tribe, 412 Route 37, Akwesasne, New York 13655, Phone: (518) 358-2272; Grant Amount: $550,000; Activity: Water Distribution System.

President Troy Swallow, Ho-Chunk Nation, P.O. Box 667, Highway 54 East, Black River Falls, WI 54615, Telephone: (715) 284-9343; Grant Amount: $500,000; Activity: Water System.

Chairperson Sandra Rachal, Sokaogon Chippewa Community, 3086 State Highway 55, Crandon, WI 54520, Telephone: (715) 478-7628; Grant Amount: $500,000; Activity: Convenience Store.

Chairman Robert Chicks, Stockbridge-Munsee Community, N 8476 Mo He Con Nuck Road, Bowler, WI 54861, Telephone: (715) 793-4111; Grant Amount: $500,000; Activity: Assisted Living Center.

Governor Richard Doyle, Pleasant Point Passamaquoddy Tribal Government, P.O. Box 301, Princeton, ME 04668, Telephone: (207) 796-8004; Grant Amount: $500,000; Activity: Housing Rehabilitation.

Chairman Gary Donald, Bois Forte Reservation, P.O. Box 16, Nett Lake, MN 55772, Telephone: (218) 757-3261; Grant Amount: $500,000; Activity: Fitness/Rehabilitation Center.

Ogema Jonnie J. Sam II, Little River Band of Ottawa Indians, 375 River Street, Manistee, MI 49660, Telephone: (231) 723-8288; Grant Amount: $500,000; Activity: Water Storage and Distribution System.

Chairman Gerald Brun, Red Lake Band of Chippewa Indians, P.O. Box 547, Red Lake, MN 56671, Telephone: (218) 679-3341; Grant Amount: $500,000; Activity: McBride Loop Water Project.

Principal Chief Leon Jones, Eastern Band of Cherokee Indians, P. O. Box 455, Cherokee, NC 28719, Telephone: (828) 497-2771; Grant Amount: $500,000; Activity: Women's Wellness Center.

Chairperson Beverly Wright, Wampanoag Tribe of Gay Head, 20 Black Brook Road, Aquinnah, MA 02535, Telephone: (508) 645-3790; Grant Amount: $500,000; Activity: Community Center.

Chairman Doyle Turner, White Earth Reservation Tribal Council, P.O. Box 418, White Earth, MN 56591, Telephone: (218) 983-3285; Grant Amount: $500,000; Activity: Public Facilities/Improvements.

Governor Bill Anoatubby, Chickasaw Nation, P. O. Box 1548, Ada, OK 74821, Telephone: (580) 436-2603; Grant Amount: $750,000.00; Activity: Wellness Center.

Chairman Alton LeBlanc, Jr., Chitimacha Tribe of Louisiana, P. O. Box 661, Charenton, LA 70523, Telephone: (580) 924-8280; Grant Amount: $750,000; Activity: Infrastructure.

Chief Gregory E. Pyle, Choctaw Nation of Oklahoma, P. O. Drawer 1210, Durant, OK 74702, Telephone: (580) 924-8280; Grant Amount: $750,000; Activity: Diabetes/Wellness Center.

Chairman John Barrett, Citizen Potawatomi Nation, 1601 S. Gordon Cooper Drive, Shawnee, OK 74801, Telephone: (405) 275-3121; Grant Amount: $750,000; Activity: Microenterprise.

Chairman Johnny Wauqua, Comanche Tribe, P. O. Box 908, Lawton, OK 73502, Telephone: (580) 492-4988; Grant Amount: $435,394; Activity: Community Center.

Chief Larry Joe Brooks, Delaware Tribe of Indians, Childcare Center 220 NW Virginia Ave., Bartlesville, OK 74003, Telephone: (918) 336-5272; Grant Amount: $750,000; Activity: Childcare Center.

Chairman Jeff Houser, Fort Sill Apache Tribe, Route 2, Box 121, Apache, OK 73006, Telephone: (580) 588-2298; Grant Amount: $750,000; Activity: Econimic Development.

Mr. Lowell Wesley, Town King, Kialegee Tribal Town, P. O. Box 332, Wetumka, OK 74883, Telephone: (405) 452-3262; Grant Amount: $324,817; Activity: Infrastructure.

Chairman Danny Kaskaske, Kickapoo Tribe of OK, P. O. Box 70, McLoud, OK 74851, Telephone: (405) 964-2075; Grant Amount: $750,000; Activity: Childcare Center.

Principal Chief Perry Beaver, Muskogee (Creek) Nation, P. O. Box 580, Okmulgee, OK 74447, Telephone: (918) 756-8700; Grant Amount: $750,000; Activity: Food Distribution Center.

Principal Chief Jim Gray, Osage Tribe, 627 Grandview, Pawhuska, OK 74056, Telephone: (918) 287-1128; Grant Amount: $528,500; Activity: Headstart/Childcare Center.

Acting Chairman Mike Gawhega, Otoe-Missouria Tribe, 8151 Highway 177, Red Rock, OK 74651-0348, Telephone: (580) 723-4466; Grant Amount: $750,000; Activity: Wellness Center.

President Robert Chapman, Pawnee Business Council, P. O. Box 470, Pawnee, OK 74058, Telephone: (918) 762-3621; Grant Amount: $750,000; Activity: Health Facility.

Chairman Badger Wahwassuck, Prairie Band of Potawatomi, 16281 Q Road, Mayetta, KS 66509, Telephone: (785) 966-2255; Grant Amount: $710,657; Activity: Infrastructure.

Principal Chief Don Abney, Sac & Fox Nation of OK, Route 2, Box 246, Stroud, OK 74079, Telephone: (918) 968-3526; Grant Amount: $750,000; Activity: Youth Center.

Chief LeRoy Howard, Seneca-Cayuga Tribe of Oklahoma, P. O. Box 1283, Miami, OK 74355, Telephone: (918) 542-3684; Grant Amount: $750,000; Activity: Fire Station.

Chairman Earl J. Barbry, Sr., Tunica-Biloxi Tribe of LA, P.O. Box 1585, Marksville, LA 71351; Grant Amount: $750,000; Activity: Multipurpose Center.

President Gary McAdams, Wichita & Affiliated Tribes, P.O. Box 729, Anadarko, OK 73005, Telephone: (405) 247-2425; Grant Amount: $749,957; Activity: Family Community Center.

Chief DuWayne Johnson, Curyung Tribal Council, 134 First Avenue West, P.O. Box 216, Dillingham, AK 99576, Telephone: (907) 842-2384; Grant Amount: $500,000; Activity: Head Start/Family Resource Center.

President Robert Heyano, Native Village of Ekuk, P.O. Box 530 Center, Dillingham, AK 99576, Telephone: (907) 842-3842; Grant Amount: $500,000; Activity: Head Start/Family Resource Center.

President Wassalie Bavilla, Native Village of Kwinhagak, Box 149, Quinhagak, AK 99655, Telephone: (907) 556-8167; Grant Amount: $500,000; Activity: Youth Center/Multipurpose P.O. Center.

First Chief Bobby Tritt, Venetie Village Council, P.O. Box 81119, Venetie, AK 99781, Telephone: (907) 849-8212; Grant Amount: $495,000; Activity: New Housing Construction.

President Gary Kompkoff, Native Village of Tatitlek, P.O. Box 171, Tatitlek, AK 99677, Telephone: (907) 325-2311; Grant Amount: $470,320; Activity: Assisted Living Facility.

First Chief Henry Deacon, Grayling IRA Tribal Council, P.O. Box 49, Grayling, AK 99590, Telephone: (907) 453-5116; Grant Amount: $500,000; Activity: Primary Care Facility.

President Pete Mellick, Sleetmute Traditional Council, P.O. Box 34, Sleetmute, AK 99668, Telephone: (907) 449-4205; Grant Amount: $500,000; Activity: Public Services Facility.

First Chief Evon Peter, Arctic Village Council, P.O. Box 69, Arctic Village, AK 99722, Telephone: (907) 587-5523; Grant Amount: $439,500; Activity: New Housing Construction.

President Andrew Boots, Marshall Traditional Council, P.O. Box 110, Marshall, AK 99585, Telephone: (907) 679-6302; Grant Amount: $500,000; Activity: Water/Sewer Expansion.

President Joseph Mike, Native Village of Kotlik, P.O. Box 20210, Kotlik, AK 99620, Telephone: (907) 899-4326; Grant Amount: $500,000; Activity: Water/Sewer/Power/Boardwalk Expansion.

President Moses Carl, Newtok Village, P.O. Box 5545, Newtok, AK 99559, Telephone: (907) 237-2314; Grant Amount: $498,824; Activity: Primary Care Facility.

President Andrew Kasayuli, Scammon Bay Traditional Council, P.O. Box 126, Scammon Bay, AK 99662, Telephone: (907) 588-5425; Grant Amount: $351,594; Activity: Primary Care Facility.

President Thomas F. Soolook, Native Village of Diomede, P.O. Box 7079, Diomede, AK 99762, Telephone: (907) 686-2175; Grant Amount: $500,000; Activity: Housing Rehabilitation.

Chairman Earl Old Person, Blackfeet Tribe, P.O. Box 850, Browning, MT 59417, Telephone: (406) 338-7521; Grant Amount: $800,000; Activity: Community Water Project.

Chairman Alvin Windy Boy, Chippewa Cree Tribe, P.O. Box 544, Box Elder, MT 59521, Telephone: (406) 395-4282; Grant Amount: $800,000; Activity: Head Start Facility.

Chairman Michael B. Jandreau, Lower Brule Sioux Tribe, P.O. Box 183, Lower Brule, SD 57548, Telephone: (605) 473-5522; Grant Amount: $800,000; Activity: Housing Rehabilitation.

Chairman Gregg Bourland, Cheyenne River Sioux Tribe, P.O. Box 590, Eagle Butte, SD 57625, Telephone: (605) 964-4155; Grant Amount: $800,000; Activity: General Purpose Community Center.

Chairman Tex Hall, Three Affiliated Tribes of Fort Berthold, 404 Frontage Road, New Town, ND 58763, Telephone: (701) 627-4781; Grant Amount: $800,000; Activity: Multi-Purpose Cultural Community Center.

Co-Chairman Ben S. Ridgley, Northern Arapaho Tribe, P.O. Box 396, Fort Washakie, WY 82514, Telephone: (307) 332-6120; Grant Amount: $600,000; Activity: Community Facility to House Public Services.

Chairperson Geri Small, Northern Cheyenne Tribe, P.O. Box 128, Lame Deer, MT 59043, Telephone: (406) 477-6284; Grant Amount: $749,549; Activity: Solid Waste Canister Transfer Station.

Chairman Leonard Burch, Southern Ute Tribe, P.O. Box 800, Ignacio, CO 81137, Telephone: (970) 563-4517; Grant Amount: $800,000; Activity: Alcohol and Drug Treatment Facility.

Chairwoman Lora Tom, Paiute Indian Tribe of Utah, 440 North Paiute Drive, Cedar City, UT 84720, Telephone: (435) 586-1112; Grant Amount: $450,000; Activity: Water Distribution System, Grant Amount: $333,936; Activity: Health Clinic.

Robert Gautier, Executive Director, Salish and Kootenai Housing Authority, P.O. Box 38, Pablo, MT 59855, Telephone: (406) 675-4491; Grant Amount: $800,000; Activity: Water and Sewer Services.

Chairman Charles Murphy, Standing Rock Sioux Tribe, P.O. Box D, Fort Yates, ND 58538, Telephone: (701) 854-7201; Grant Amount: $800,000; Activity: General Purpose Community Center Addition.

Chairman John Blackhawk, Winnebago Tribe, P.O. Box 687, Winnebago, NE, Telephone: (402) 878-2272; Grant Amount: $800,000; Activity: Infrastructure.

[FR Doc. 03-11523 Filed 5-8-03; 8:45 am]

BILLING CODE 4210-33-P